DEPARTMENT OF ENERGY

Federal Energy Regulatory Commission

Combined Notice of Filings #1

September 30, 2008.

Take notice that the Commission received the following electric corporate filings:

Docket Numbers: EC08-127-000.

Applicants: Puget Sound Energy, Inc., Mint Farm Energy Center LLC.

Description: Joint Application of Mint Farm Energy Center LLC and Puget Sound Energy, Inc. Under Section 203 of the FPA and Request for Expedited Action.

Filed Date: 09/26/2008.

Accession Number: 20080926-5119.

Comment Date: 5 p.m. Eastern Time on Friday, October 17, 2008.

Take notice that the Commission received the following exempt wholesale generator filings:

Docket Numbers: EG08-98-000.

Applicants: Elbow Creek Wind Project LLC.

Description: Self Certification Notice as an Exempt Wholesale Generator of Elbow Creek Wind Project LLC.

Filed Date: 09/29/2008.

Accession Number: 20080929-5002.

Comment Date: 5 p.m. Eastern Time on Monday, October 20, 2008.

Take notice that the Commission received the following electric rate filings:

Docket Numbers: ER08-1214-001; ER08-1215-001; ER08-1216-001.

Applicants: Wisconsin Electric Power Company.

Description: Wisconsin Electric Power Co. submits an executed Settlement Agreement and associated documents.

Filed Date: 09/12/2008.

Accession Number: 20080912-4012.

Comment Date: 5 p.m. Eastern Time on Tuesday, October 07, 2008.

Docket Numbers: ER08-1315-001.

Applicants: Florida Power & Light Company.

Description: Florida Power & Light Company submits an amendment to their 7/28/08 filing to address an inquiry from FERC Staff re the nature of the facilities specifically whether the facilities to be installed by FPL etc.

Filed Date: 09/11/2008.

Accession Number: 20080916-0098.

Comment Date: 5 p.m. Eastern Time on Thursday, October 09, 2008.

Take notice that the Commission received the following open access transmission tariff filings:

Docket Numbers: OA08-9-002.

Applicants: PJM Interconnection, L.L.C.

Description: Compliance Amendment.

Filed Date: 09/29/2008.

Accession Number: 20080929-5141.

Comment Date: 5 p.m. Eastern Time on Monday, October 20, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov, or call (866) 208-3676 (toll free). For TTY, call (202) 502-8659.

Nathaniel J. Davis, Sr.,
Deputy Secretary.

[FR Doc. E8-27904 Filed 11-24-08; 8:45 am]

BILLING CODE 6717-01-P